DEPARTMENT OF TRANSPORTATION

National Highway Traffic Safety Administration

49 CFR Part 571

[Docket No. NHTSA-2004-17917]

Tire Safety Information

AGENCY: National Highway Traffic Safety Administration (NHTSA), Department of Transportation.

ACTION: Final rule; response to petitions for reconsideration; technical amendment.

SUMMARY: In November 2002, NHTSA published a final rule establishing, among other things, new tire safety information labeling requirements for vehicles. In June 2004, we published a final rule (June 2004 final rule) responding to petitions for reconsideration on a variety of issues, and made certain amendments to the new vehicle labeling requirements. The new tire safety information labeling requirements for vehicles become effective September 1, 2005.

This document responds to petitions for reconsideration of the June 2004 final rule requesting further changes to the vehicle labeling requirements. After carefully considering the petitions, the agency is modifying certain aspects of these requirements by allowing the option of including selected additional information.

DATES: This rule is effective September 1, 2005, except for the amendment to S4.4.2, which is effective June 1, 2007. Voluntary compliance is permitted before that time. In addition, vehicle placards conforming to the amended requirements of S4.3 of 49 CFR 571.110, as published on November 18, 2002 (66 FR 69600) and including any correcting amendments, may be used for vehicles manufactured before September 1, 2006.

FOR FURTHER INFORMATION CONTACT: For technical and policy issues: Ms. Mary Versailles, Office of International Policy, Fuel Economy and Consumer Programs. Telephone: (202) 366-2750. Fax: (202) 493-2290. E-mail: Mary.Versailles@nhtsa.dot.gov.

For legal issues: George Feygin, Attorney Advisor, Office of the Chief Counsel. Telephone: (202) 366-2992. Fax: (202) 366-3820. E-mail: George.Feygin@nhtsa.dot.gov.

Both persons may be reached at the following address: NHTSA, 400 7th Street, SW., Washington, DC 20590.

SUPPLEMENTARY INFORMATION:

Table of Contents

I. Summary of Decision

II. Background

III. Petitions for Reconsideration

IV. Discussion and Analysis

A. Optional load identification for light truck tires

B. Load index number and speed rating symbol

C. Supplemental identifier other than VIN or barcode

D. Placard format subheadings

E. Effective date

F. Miscellaneous questions and issues addressed in other documents

V. Regulatory Text

I. Summary of Decision

In November 2002, NHTSA published a final rule establishing, among other things, new tire safety information labeling requirements for vehicles. In June 2004, we published a final rule responding to petitions for reconsideration on a variety of issues, and made certain amendments to the new vehicle labeling requirements. In response to the June 2004 final rule, NHTSA received several new petitions for reconsideration. After considering these petitions, this final rule makes a technical amendment to the new vehicle labeling requirements to permit certain additional information on the placard and the label at the option of the manufacturer. Specifically, the manufacturers may show light truck tire load range identification and tire service description information on the placard or the label. Further, the manufacturers may place an alphanumeric and/or barcode part identifier along the bottom or side edges of the placard or the label. This final rule also clarifies certain placard and label subheading requirements and responds to several requests for legal interpretations. We are denying requests to delay the effective date of September 1, 2005 because we have neither changed nor imposed new mandatory vehicle labeling requirements. However, between September 1, 2005 and August 31, 2006, the manufacturers can use placards and labels that comply with the requirements of the November 2002 final rule.

II. Background

The Transportation Recall Enhancement, Accountability, and Documentation Act of 2000 (TREAD Act) ¹ required the agency to, among other things, improve tire labeling in order to assist consumers in identifying tires that may be the subject of a recall.² Additionally, the TREAD Act provided that the agency may take whatever additional action it deemed appropriate to ensure that the public is aware of the importance of observing motor vehicle tire load limits and maintaining proper tire inflation levels for safe vehicle operation.³ For example, such additional action could include a requirement that the manufacturers provide the vehicle purchasers with information on appropriate tire inflation levels and load limits.

¹ See Pub. L. 106-414, November 1, 2000.

² See id at Sec. 11(a).

³ See id at Sec. 11(b).

In response to this mandate, NHTSA published a final rule (November 2002 final rule), which among other things, established new tire safety information labeling requirements for vehicles.⁴ These requirements become effective September 1, 2005, and are specified in S4.3 of Federal Motor Vehicle Safety Standard (FMVSS) No. 110. The final rule requires that each vehicle (other than a motorcycle) with a Gross Vehicle Weight Rating (GVWR) of 10,000 pounds or less contain either a new Vehicle Placard showing certain tire and loading information (placard), or a combination of a placard currently required by FMVSS No. 110, and a new Tire Inflation Pressure Label (label). The final rule specifies the content, format, and location for the placard and the label. Subsequent documents clarified the applicability of the final rule ⁵ and extended the compliance date for the vehicle labeling provisions.⁶

⁴ See 67 FR 69600 (November 18, 2002).

⁵ See June 26, 2003 correcting amendment at 68 FR 37981.

⁶ See 68 FR 33655 (June 5, 2003).

On June 3, 2004, NHTSA published a final rule; response to petitions for reconsideration of the November 2002 final rule (June 2004 final rule).⁷ The agency made the following changes to the vehicle labeling requirements:

⁷ See 69 FR 31306.

• The placard and label could contain a barcode or vehicle identification number (VIN) on the right side of the placard or the label.

• The placard and the label could contain tire load indications of “XL” or “Reinforced.”

• We clarified the use of red and yellow ink on the placard and the label.

• The placard format was revised to match the format of the label.

• The effective date for vehicle labeling requirements was extended to September 1, 2005.

Subsequent to issuing the June 2004 final rule, the agency published a correction notice and issued several letters of interpretation pertaining to questions addressed in this document. We will discuss our correction notice and relevant interpretation letters in Section IV.

III. Petitions for Reconsideration

NHTSA received three petitions for reconsideration of the June 2004 final rule from General Motors (GM), the Rubber Manufacturers Association (RMA), and the Alliance of Automobile Manufacturers (Alliance).⁸ Further, the agency received several requests for legal interpretations of the new vehicle labeling requirements. We addressed some of these requests by issuing letters of interpretations, and promised to address other questions when we issued this document.

⁸ These petitions are available online at http://dms.dot.gov/search/searchFormSimple.cfm (Docket No. NHTSA-2004-17917).

The following issues were raised in the petitions:

• GM petitioned the agency to allow optional light truck tire load identifications of B, C, D, E, or F on the placard and the label.

• Alliance and RMA petitioned the agency to allow optional service description (load index number and speed rating symbol) on the placard and the label.

• Alliance petitioned the agency to allow the use of a part identifier other than the VIN or a bar code on the placard and the label, and to delete the location requirements for that identifier.

• Alliance petitioned the agency to limit the spare tire information requirement to only compact spare tires, and not full-size spare tires or vehicles without spares.

• Alliance petitioned the agency to revise S4.3.3 to show tire and rim size information on the certification label only once if the same tire and rim combinations can apply to the front and rear axle.

• Alliance petitioned the agency to suspend the effective date until all issues have been resolved, allowing manufacturers the option of complying with: (a) the requirements in effect prior to November 2002 final rule; or (b) the requirements of the November 2002 final rule; or (c) the requirements of the June 2004 final rule.

• GM and Alliance petitioned the agency to correct the regulatory text so that it permits the use of subheadings “size,” or “original tire size,” or “original size.”

• GM petitioned the agency to correct S4.3.4(c) and S4.3.4(b), which the agency had discussed in the preamble to the 2004 final rule, but failed to include in the regulatory text.

The following issues were raised in letters requesting legal interpretations and comments to the docket:

• VW asked if manufacturers could use placards and optional labels printed prior to the publication of the June 2004 final rule.

• Subaru and Hyundai asked the agency if manufacturers could use “an alpha-numeric identifier” in place of the VIN or barcode. These requests were similar to one of the issues raised by Alliance.

• In a comment to the docket, Ford indicated support for the Alliance petition and urged the agency to permit optional service description (load index number and speed rating symbol) on the placard or optional label.

IV. Discussion and Analysis

A. Optional Load Range Identification for Light Truck Tires

The current language of the new vehicle labeling requirements only lists optional tire load identifications “XL” or “reinforced.” ⁹ In its petition and a subsequent October 11, 2004 letter, GM asked the agency to amend the vehicle labeling requirements to also allow optional light truck tire load range identifications B, C, D, E, or F on the placard and label. GM noted that optional light truck load range identifications B, C, D, E, or F are used for light truck tires to identify load carrying capability in the same way load identification XL is used for passenger car tires to identify extra load carrying capability. GM reasoned that light truck owners should be made aware of tire load carrying capabilities so that they know to replace these tires with ones capable of holding similar loads. GM cautioned that the same size light truck tires may have different load carrying capabilities. Thus, it is not enough for the vehicle placard to specify the tire size. Alliance and RMA also urged the agency to allow optional light truck tire load range identifications for similar reasons.

⁹ See S4.3(i) of FMVSS No. 110, effective September 1, 2005.

In a letter to GM dated February 18, 2004, NHTSA stated that it was not the agency's intent to allow the load rating identification for passenger car tires, but prohibit it for light truck tires.¹⁰ We interpreted the language of S4.3(i) of FMVSS No. 110 to permit the use of light truck tire load range identifications B, C, D, E, or F. We stated that we would amend the regulatory text to make this clear, and are doing so in this document.

¹⁰ See http://www.nhtsa.dot.gov/cars/rules/interps/files/GF007220-2.html.

B. Load Index Number and Speed Rating Symbol

RMA and Alliance petitioned the agency to allow the placard and the label to show service description information, consisting of a numeric tire load index and a speed rating. Ford also submitted a comment indicating support for the Alliance request to show this additional information.¹¹

¹¹ See Docket No. NHTSA-2004-17917-6.

First, RMA and Alliance argued that speed rating symbols help assure compatibility between the maximum speed capability of the vehicle and tires. Alliance indicated that there is an industry consensus of opinion regarding service description information and its usefulness to consumers. In support of its assertion, Alliance stated that www.TireRack.com and the Tire and Rim Association 2004 Year Book use the service description information. RMA stated that tires that are designed to withstand extended travel at high speeds may not have the same handling characteristics of other tires. Both RMA and Alliance suggested that the speed rating symbol was necessary to ensure that tires originally equipped on a given vehicle are replaced with similarly rated tires.

Second, with respect to tire load index, Alliance and RMA argued that the tire load index is necessary to alert consumers to load carrying capabilities of their tires. Both parties argued that there is enough space to include the speed rating and the load index without overcrowding the placard and the label.

On reconsideration, we have decided to amend the new vehicle labeling requirements to allow this information on the placard and the label at the option of the manufacturer.

We believe that the recommended tire inflation pressure, replacement tire size, and maximum load carrying capability rating are critical components of tire safety information pertinent to consumers. We believe that the tire speed rating, which indicates the tire's maximum speed capability (usually well in excess of speeds permitted on U.S. public roads), and the tire load index, which indicates the maximum load a tire can carry at the speed indicated by the speed rating symbol are not critical components of tire safety information, but may be beneficial to some consumers. We are persuaded by the petitioner's request to allow optional tire service description information for several reasons.

First, this optional tire service description information would take up minimal additional space on the placard or the label. Specifically, the load index is a two or three digit numerical code, and the speed rating is a single letter. Thus, the optional information amounts to three or four additional alphanumeric characters.

Second, as indicated by the RMA, vehicle manufacturers select, as original equipment, tires that match the maximum speed capability of the vehicle to which they are fitted. For some performance vehicles, this information may be helpful in enabling the consumer to select replacement tires consistent with the vehicle's speed capabilities.

Finally, we are persuaded by Alliance's argument that to optimize performance of certain vehicles, the replacement tires must match not only the size but also speed rating capability, which usually impacts vehicle performance and handling characteristics.

C. Supplemental Identifier Other Than VIN or Barcode

The current language of the new vehicle labeling requirements allows vehicle manufacturers to place an optional bar code or VIN along the right-hand edge of the vehicle placard and label.¹²

¹² See S4.3(h) of FMVSS No. 110, effective September 1, 2005.

In a letter dated October 7, 2004, Hyundai asked whether it would be permissible to use an alphanumeric identifier other than the VIN or bar code, in order to ensure that the correct label is placed on each specifically configured vehicle.¹³ Hyundai explained that depending on trim or performance variations, vehicles on the same assembly line may require different labels because they are equipped with different tires, or vary in recommended inflation pressures. Hyundai argued that an alphanumeric label identifier, other than VIN or barcode, could be helpful in ensuring that the correct label is placed on a specifically configured vehicle. Subaru made a similar request for a legal interpretation, and Alliance petitioned for similar relief. Alliance also asked for less restriction on the location of the identifier, arguing that the requirement that it be located along the right-hand edge of the placard or the label was “arbitrary and unnecessarily restrictive.”

¹³ See Docket No. NHTSA-2004-17917-10.

NHTSA agrees with the petitioners that an alphanumeric label identifier, other than VIN or barcode could be helpful in ensuring that different vehicles built on one assembly line are labeled correctly. In fact, when we issued the June 2004 final rule, we allowed the use of bar codes and VINs for that very purpose; i.e., to help manufacturers ensure correct label installation at the factory. Because we agree that different types of identifying information could be used for that purpose, we are amending S4.3(h) to allow for any form of optional alphanumeric identification information and/or barcode that helps the manufacturers ensure correct label installation at the factory.

With respect to the location of the optional alphanumeric identifier, we believe a greater degree of flexibility is warranted. As indicated in the November 2002 final rule, the purpose of the new vehicle labeling requirements is to make them more noticeable and more explicit. NHTSA explained that the actual arrangement or the shape of labels is less relevant than their content.¹⁴ Accordingly, we are amending the regulatory text to allow the optional alphanumeric identifier to be located along either vertical edge or bottom edge of the label or the placard.

¹⁴ See 67 FR 69600 at 69613.

We continue to believe it is important that this optional information is located along the edges of the label or the placard, and “away” from the tire safety information pertinent to consumers. The new location and orientation choices for this optional information reduce the burden on the manufacturers, yet continues to ensure that a consumer would not perceive this information as something relevant to tire inflation and loading information.

D. Placard Format Subheadings

In their petitions, GM and Alliance asked the agency to correct the regulatory text so that it permits the use of subheadings “size,” or “original tire size,” or “original size.” GM noted that the agency had indicated it would do so in the preamble to the June 2004 final rule; however, the regulatory text did not reflect that change.¹⁵

¹⁵ See 69 FR 31306 at 31315.

When the agency issued the June 2004 final rule, we intended to allow the use of the three subheadings interchangeably. However, we inadvertently omitted this change from the regulatory text. In a document published on August 19, 2004, we corrected the regulatory text to permit the use of subheadings “size,” or “original tire size,” or “original size.” ¹⁶

¹⁶ See 69 FR 51399.

Alliance petitioned the agency to limit the spare tire information requirements to only compact spare tires, and not include full-size spare tires. Alliance reasoned that the front and rear tire information fields within the placard or the label already provide the pertinent information for the full size spare tires. Further, Alliance noted that the inflation pressure for the full size spare might be different depending on whether the spare tire is installed in the front or rear of the vehicle. Alliance stated that, when the full size tire is in use, it would be better for consumers to rely on the inflation information specific to either front or rear of the vehicle. Thus, Alliance suggested that the information field for spare tires is unnecessary when a full size spare is provided.

We agree that the full size spare tire information on the placard and label may be redundant in some situations, and that more precise tire inflation pressure information may be already available on the same placard or the label. However, the manufacturers are in the best position to determine if additional full size spare tire information is necessary, or if the information already provided for the front and rear tires is sufficient.

Accordingly, we are allowing the manufacturers to omit the full size spare tire information, if they believe it to be redundant. Because the agency continues to believe that consumers would benefit from obtaining relevant spare tire information from the label or the placard, the label and the placard must nevertheless contain the subheading of “spare.” However, the manufacturers can use the words “see above” instead of providing the tire size and cold tire inflation pressure in the appropriate fields. By contrast, if the placard or the label contained no mention of the spare tire, some consumers could be deprived of vital tire safety information, including whether or not their vehicle is equipped with any spare tire at all. Contrary to Alliance's position, we do not believe that the consumers would necessarily know to adjust their spare tire pressure according to the tire information provided for front or rear tires.

We are amending the regulatory text to reflect this change.

In its petition, Alliance asked the agency not to require spare tire information subheadings for vehicles not equipped with spare tires. The agency believes it is appropriate to continue requiring spare tire information subheadings on all placards and labels. If no spare tire is provided, the appropriate field must include the word “none.” As discussed above, the agency believes that consumers would benefit from knowing that their vehicle is, or is not equipped with a spare tire. The placard and the label dedicated to critical tire safety information is the best place to alert the consumers that their vehicle is not equipped with a spare tire. Omitting the spare tire subheading does not convey this pertinent information to consumers. We believe that this requirement does not result in additional burden on vehicle manufacturers because it allows for a uniform placard and label format for all vehicle configurations.

E. Effective Date

In its petition, Alliance asked the agency to suspend the effective date of the June 2004 final rule until NHTSA responds to all petitions for reconsideration. Alliance suggested that the agency allow the use of vehicle labels that comply with: (1) The requirements in effect prior to the November 2002 final rule; (2) the requirements of the November 2002 final rule; or (3) the requirements of the June 2004 final rule.

The agency carefully considered Alliance's request and believes that delaying the effective date is not necessary for the following reasons.

First, this technical amendment does not impose any new mandatory vehicle labeling requirements and does not change the format of the placard or the label. Instead, in response to petitions for reconsideration, the agency is allowing the option of including certain additional information on the placard or the label. Thus, labels and placards printed before the publication of this document (in conformance with the requirements of the June 2004 final rule) are unaffected. For example, this document amends the regulatory text to allow the option of including an alphanumeric part identifier and load range identification on the placard or the label. Because these items are optional, the amendments do not result in any additional compliance burdens or require new label design efforts.

Second, as previously stated by this agency on numerous occasions, a pending petition for reconsideration does not toll the effective date of the subject final rule. NHTSA carefully considers all petitions for reconsideration arising from promulgation of new rules. After careful review, the agency decides whether to grant the petitions and whether to modify the rule. However, NHTSA's response to such petitions is prospective, and in the interim, the final rule remains effective as originally issued. Because manufacturers cannot assume that the requested changes will be made in response to petitions for reconsideration, they must take the necessary steps in order to timely comply with the original requirements of the subject final rule. In the present case, the manufacturers first became aware of the new labeling requirements in 2002. After responding to petitions, the agency amended the label format in June of 2004. No further required format changes are being made in this document. Thus, the manufacturers will have had almost 14 months to produce compliant placards and labels. Under these circumstances, the agency does not believe that extending the effective date is warranted.

In sum, the agency is denying the request to suspend the effective date of vehicle labeling requirements or to allow optional compliance with alternative vehicle labeling requirements.

In an August 25, 2004 e-mail requesting interpretation of the new vehicle labeling requirements, VW asked if, after September 1, 2005, it would be permissible to use the placards that comply with vehicle labeling requirements of the November 2002 final rule, but not the amended requirements of the June 2004 final rule, until the current stock of labels printed in response to the November 2002 final rule is depleted. VW indicated that the printed placards were not being used because the agency delayed the effective date of new vehicle labeling requirements.¹⁷

¹⁷ See Docket No. NHTSA-2004-1791-7.

We note that VW and other manufacturers that printed placards and labels prior to issuance of the June 2004 final rule could use these placards and labels now, because these placards and labels comply with current vehicle labeling requirements in S4.3 of FMVSS No. 110. Thus, we do not believe that an excessive quantity of placards and labels would have to be discarded as a result of changes made in the June 2004 final rule.

However, because the placards and labels that conform to the improved labeling requirements of the November 2002 final rule (although not the format changes made in the June 2004 final rule), would meet the agency's basic goal of ensuring that the public is aware of the importance of observing motor vehicle tire load limits and maintaining proper tire inflation levels, we will permit the manufacturers to use the placards and labels printed to meet the November 2002 final rule for a period of 1 additional year. That is, between September 1, 2005 and August 31, 2006, the manufacturers can use placards and labels that comply with the requirements of the November 2002 final rule ¹⁸ or the requirements of the July 2004 final rule, as amended by this document.¹⁹

¹⁸ See 67 FR 69600 at 69623.

¹⁹ See 69 31306 at 31317.

F. Miscellaneous Questions and Issues Addressed in Other Documents

1. On March 21, 2004, GM petitioned the agency to correct the regulatory text in S4.3.4(c) of FMVSS No. 110. The agency indicated that it would do so in the preamble to the June 2004 final rule, but inadvertently omitted relevant regulatory text. Instead, we corrected the regulatory text of S4.3.4(c) in a document published on August 19, 2004.²⁰ In the same document, the agency also corrected S4.2.2 of FMVSS No. 110.

²⁰ See 69 FR 51399.

In a letter dated September 23, 2004, GM asked whether a technical correction to S4.2.2 was necessary. Specifically, GM asked the agency to clarify the normal load requirements. In a letter dated January 3, 2005, we indicated that currently, S4.2.2 specifies normal load limits for passenger cars only. Effective June 1, 2007, S4.2.1 will specify the normal load limits for passenger cars, and S4.2.2 will specify the normal load requirements for multipurpose passenger vehicles, trucks, buses, and trailers with a GVWR of 10,000 pounds or less. We stated that the August 19, 2004 correction did not affect the date on which multipurpose passenger vehicles, trucks, buses, and trailers with a GVWR of 10,000 pounds will become subject to the normal load requirements.²¹

²¹ See http://www.nhtsa.dot.gov/cars/rules/interps/files/GF007220.html.

We reviewed this issue further and concluded that the change to S4.2.2 of FMVSS No. 110 was unnecessary. Accordingly, we are amending the regulatory language to correct this error.

2. S4.3.3 of FMVSS No. 110 requires that vehicles other than passenger cars show certain tire and rim size and recommended inflation pressure information on the certification label, in addition to the placard and the label discussed elsewhere in this document. Alliance petitioned the agency to change this requirement such that the tire and rim size information and recommended inflation pressure appear only once, if the same information applies to both the front and rear axles. The petitioner argues that repeating this information takes up unnecessary space when the same tire and rim combination is used on both axles.

The agency believes that the tire and rim size information and recommended inflation pressure do not take inordinate amount of space on the certification label. Further, we believe that listing this information separately for each axle avoids potential confusion and specifies the necessary information in a clear format.

In reviewing the example of the certification label requirements provided in S4.3.3 of FMVSS No. 110, we noticed that the example contains several metric value conversion errors. This document corrects these errors.

3. S4.4.2 of FMVSS No. 110, as amended on June 26, 2003, contains a typographical error.²² Specifically, the regulatory text of that section incorrectly refers to S4.2.2 instead of referring to S4.4.2. This document corrects these errors.

²² See 68 FR 38116 at 38148.

4. In the June 2004 final rule, we stated that NHTSA is preparing to request OMB for clearance of the collections of information associated with that rulemaking.²³ That request was unnecessary because the OMB already approved the collection of information related to vehicle and tire labeling (OMB Control No. 2127-0503).²⁴ This approval expires 12/31/2005. NHTSA will be preparing a new request to OMB for information collection clearance in the near future.

²³ SSee 69 FR 31306 at 31317.

²⁴ See http://www.whitehouse.gov/omb/library/OMBINV.STATE.DOT.htm#DOT.

This technical amendment does not contain additional “collections of information,” as that term is defined at 5 CFR Part 1320 Controlling Paperwork Burdens on the Public.

This technical amendment, made in response to petitions for reconsideration, will not impose or relax any substantive requirements or burdens on manufacturers. Instead this technical amendment clarifies existing requirements and allows certain optional information on the placard and the label.

V. Regulatory Text

List of Subjects in 49 CFR Part 571

Motor vehicle safety, Reporting and recordkeeping requirements, Tires.

In consideration of the foregoing, part 571 is amended as follows:

PART 571—FEDERAL MOTOR VEHICLE SAFETY STANDARDS

1. The authority citation for part 571 continues to read as follows:

Authority: 49 U.S.C. 322, 2011, 30115, 30166 and 30177; delegation of authority at 49 CFR 1.50.

2. Section 571.110 is amended by revising S4.2.2; S4.3(c), (d), (h) and (i); the example in the last paragraph of S4.3.3; S4.4.2 introductory text; and Figures 1 and 2 at the end of Section 571.110, to read as follows:

§ 571.110 Standard No. 110—Tire selection and rims for motor vehicles with a GVWR of 4,536 kilograms (10,000 pounds) or less.

* * * * *

S4.2.2 The vehicle normal load on the tire shall not be greater than the test load used in the high speed performance test specified in S5.5 of § 571.109 for that tire.

* * * * *

S4.3 * * *

(c) Vehicle manufacturer's recommended cold tire inflation pressure for front, rear and spare tires, subject to the limitations of S4.3.4. For full size spare tires, the statement “see above” may, at the manufacturer's option replace manufacturer's recommended cold tire inflation pressure. If no spare tire is provided, the word “none” must replace the manufacturer's recommended cold tire inflation pressure.

(d) Tire size designation, indicated by the headings “size” or “original tire size” or “original size,” and “spare tire” or “spare,” for the tires installed at the time of the first purchase for purposes other than resale. For full size spare tires, the statement “see above” may, at the manufacturer's option replace the tire size designation. If no spare tire is provided, the word “none” must replace the tire size designation;

* * * * *

(h) At the manufacturer's option, identifying information provided in any alphanumeric and or barcode form, located vertically, along the right edge or the left edge of the placard or the label, or horizontally, along the bottom edge of the placard or the label; and

(i) At the manufacturer's option, the load range identification symbol, load index, and speed rating, located immediately to the right of the tire size designation listed in accordance with S4.3(d) above.

* * * * *

S4.3.3 * * *

Truck Example—Suitable Tire-Rim Choice

GVWR: 2,441 kilograms (5381 pounds).

GAWR: Front—1,299 kilograms (2,864 pounds) with P265/70R16 tires, 16 × 8.0 rims at 248 kPa (36 psi) cold single.

GAWR: Rear—1,299 kilograms (2,864 pounds) with P265/70R16 tires, 16 × 8.00 rims, at 248 kPa (36 psi) cold single.

* * * * *

S4.4.2. Rim markings for vehicles other than passenger cars. Each rim or, at the option of the manufacturer in the case of a single-piece wheel, each wheel disc shall be marked with the information listed in S4.4.2 (a) through (e), in lettering not less than 3 millimeters in height, impressed to a depth or, at the option of the manufacturer, embossed to a height of not less than 0.125 millimeters. The information listed in S4.4.2 (a) through (c) shall appear on the outward side. In the case of rims of multi piece construction, the information listed in S4.4.2 (a) through (e) shall appear on the rim base and the information listed in S4.4.2 (b) and (d) shall also appear on each other part of the rim.

* * * * *

BILLING CODE 4910-59-P

Issued: March 16, 2005.
Jeffrey W. Runge,
Administrator.

[FR Doc. 05-5580 Filed 3-21-05; 8:45 am]

BILLING CODE 4910-59-C